DEPARTMENT OF ENERGY

Federal Energy Regulatory Commission

[Project No. 3590-014]

El Dorado Hydro; El Dorado Hydro, LLC; Notice of Transfer of Exemption

1. By letter filed April 24, 2015,¹ William B. Conway, Jr., Counsel for Enel Green Power North America, Inc. (EGPNA),² informed the Commission that the exemption from licensing for the Montgomery Creek Project, FERC No. 3590, originally issued June 23, 1982,³ has been transferred to El Dorado Hydro, LLC, an affiliate of Enel Green Power. The project is located on Montgomery Creek in Shasta County, California. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 19 FERC ¶ 62,509, Order Granting Exemption from Licensing of a Small Hydroelectric Project of 5 Megawatts or Less (1982).

2. El Dorado Hydro, LLC is now the exemptee of the Montgomery Creek Project, FERC No. 3590. All correspondence should be forwarded to: El Dorado Hydro, LLC, c/o Enel Green Power North America, Inc., Attn: General Counsel, 1 Tech Drive, Suite 220, Andover, MA 01810.

Dated: May 18, 2015.
Kimberly D. Bose
Secretary.

[FR Doc. 2015-12472 Filed 5-21-15; 8:45 am]

BILLING CODE 6717-01-P